DEPARTMENT OF THE INTERIOR

Bureau of Reclamation

Tualatin Basin Water Supply Feasibility Study, Portland, OR

AGENCY: Bureau of Reclamation, Interior.

ACTION: Notice of intent to prepare a Planning Report/Environmental Impact Statement.

SUMMARY: Pursuant to section 102(2)(C) of the National Environmental Policy Act (NEPA) of 1969, as amended, the Bureau of Reclamation (Reclamation) intends to prepare a Planning Report/Environmental Impact Statement (PR/EIS) to identify alternatives to meet future water supply needs in the Tualatin River Basin in Oregon. The purpose of the PR/EIS is to evaluate alternative methods of meeting future water supply needs for river flow restoration, municipal water, and agricultural irrigation. The Water Managers Group (WMG), an organization representing municipal water suppliers, agricultural water users, wastewater and stormwater managers, and county facilities managers, indicate that 50,000 additional acre-feet (15 billion gallons) of water per year could be needed by the year 2050 to meet demands in the three water-use sectors of river flow restoration, municipal and industrial demand, and agricultural demand. Reclamation is working with the WMG to evaluate alternatives to meeting this water supply demand because some of the alternatives involve Federal action. Although the study may result in a preferred alternative that does not involve a Federal action, Reclamation is initiating the PR/EIS process to provide appropriate public involvement and assessment of environmental impacts should a Federal action be selected for implementation. Reclamation is requesting public comment and agency input to help identify significant issues related to water supply in the Tualatin Basin to be addressed in the PR/EIS.

DATES: Scoping meetings will be held on the following dates and times:

• Hillsboro,

OR:

January 8, 2002; 2 to 4 p.m. and 6 to 8 p.m.

• Portland,

OR:

January 9, 2002; 2 to 4 p.m. and 6 to 8 p.m.

Written comments will be accepted through January 16, 2002 for inclusion in the scoping summary document.

ADDRESSES: Comments and requests to be added to the mailing list may be submitted to Bureau of Reclamation, 1150 N. Curtis Road, Suite 100, Mail Code: PN-6303, Boise, ID 83706-1234.

The scoping meetings will be held at the following locations:

• Hillsboro: Clean Water Services, 2550 Hillsboro Hwy. (Hwy. 219), Hillsboro,

OR

• Portland: Metro Council Chambers, 600 NE Grand Ave., Portland, OR

The meeting facilities are physically accessible to people with disabilities. Please direct requests for sign language interpretation for the hearing impaired, or other auxiliary aids, to Mike Relf by December 31, 2001 at the telephone, fax or TTY relay numbers listed under the “For Additional Information” section of this notice.

FOR FURTHER INFORMATION CONTACT: Mike Relf, Activity Manager, Pacific Northwest Regional Office, Bureau of Reclamation, (208) 378-5106, fax: (208) 378-5066, or at (208) 378-5106 via toll free TTY relay (800) 833-6388.

SUPPLEMENTARY INFORMATION:

Public Disclosure

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Background

Reclamation is the owner and operator of Scoggins Dam, completed in 1975, which is located on Scoggins Creek, a tributary of the Tualatin River. Henry Hagg Lake, with a storage capacity of 53,600 acre-feet (16.1 billion gallons), is the impoundment created by Scoggins Dam. Stored water in Henry Hagg Lake is currently used for river flow restoration, municipal water supply, and agricultural irrigation throughout the Tualatin River Basin. Henry Hagg Lake also provides park and recreational facilities that are operated by Washington County.

In 1997, a group of public and private agencies charged with managing water resources in the Tualatin Basin began a planning process to evaluate resource and environmental needs within the Basin. The objective was to develop long-term water resource management strategies, as part of a collaborative process. The participating agencies included Clean Water Services and the Joint Water Commission (composed of the cities of Hillsboro, Beaverton, Forest Grove, and the Tualatin Valley Water District), the City of Tigard, Tualatin Valley Irrigation District, Washington County, the Oregon Water Resources Department, and the Lake Oswego Corporation. Results and conclusions of the planning process were described in the 2001 Integrated Water Resources Management (IWRM) Strategy. The IWRM Strategy indicated that 50,000 additional acre-feet (15 billion gallons) of water per year could be needed by the year 2050 to meet demands in the three water-use sectors of river flow restoration, municipal and industrial demand, and agricultural demand.

River Flow Restoration: The IWRM Project identified potential major water supply deficits by the year 2050 in the Tualatin Basin. A major component of unmet need in the Tualatin Basin is water for flow restoration in the Tualatin River. The Tualatin River historically experiences low flows in the summer months, and yields less than 2 percent of its total annual discharge between the months of June and September. Low water flows coupled with high ambient phosphorous levels and high temperatures have created chronic water quality problems, particularly in the lower reaches of the River's mainstem. Impacts from urban development, farming and increased water withdrawals have contributed to the degradation of water quality in the Tualatin River and its tributaries. Clean Water Services is the agency responsible for meeting Federal and state water quality standards established for the River and its major tributaries. Numerical standards have been established by the Oregon Department of Environmental Quality (DEQ) for nutrients, bacteria, dissolved oxygen, and temperature. As one strategy to meet these standards, Clean Water Services maintains contracts for the release of stored water from Henry Hagg Lake and the Barney Reservoir to augment river flow. However, additional flow augmentation is needed in order to meet water quality standards. Clean Water Services has also been charged by the Washington County Board of Commissioners to coordinate the Tualatin watershed's Endangered Species Act (ESA) response to the listing of upper Willamette spring Chinook and winter steelhead as threatened species. The ESA may require higher instream flows and/or changes to flow patterns during critical seasons. For these reasons, Clean Water Services is interested in exploring options for long-term water supply in the Tualatin Basin.

Municipal and industrial demand: Twelve cities are located in the Tualatin Basin, serving a population of 450,000. Current municipal and industrial (M&I) demands total about 10 billion gallons in the summer months. For the municipalities in the Tualatin Basin, summer-time demand (defined as demand between the months of June and September) must be met by stored supplies in Henry Hagg Lake, the Barney Reservoir (owned by the Joint Water Commission) and by the City of Portland's Bull Run reservoirs. Currently, approximately 30 percent of the M&I demand in the Tualatin Basin is met by importing water from the Bull Run watershed east of Portland. M&I demands are projected to approximately double due to population growth in Washington County over the next 50 years. By 2050, approximately 20 billion gallons (67,000 acre-feet) of stored supply will be needed. This projected summer demand exceeds the capacity of the current supply system. For this reason, the cities in the Tualatin Basin are interested in exploring options for long-term water supply.

Agricultural demand: The Tualatin Valley Irrigation District (TVID) is currently authorized by Federal contract with Reclamation to irrigate up to 17,000 acres in the Tualatin Valley. Natural flows from the Tualatin River are used to supply irrigation needs at the beginning of the season. As river flows decrease, the TVID uses stored water in Henry Hagg Lake to meet irrigation demand. In addition, an undetermined number of agricultural water users are exercising individual water rights to natural flows on the Tualatin River and its tributaries. Trends in agricultural water demand in the Tualatin Basin will depend on population growth patterns, crop types, and market value for agricultural products. Future water supply planning should be able to provide the flexibility to meet increased need for irrigation, or for decreased need for irrigation supply due to increased conservation and efficiency. Even if water demands do not increase over time in this sector, shifts may occur in where and when irrigators withdraw water from the River and its tributaries. These changes may be required as a response to the ESA or other environmental regulations. New water supply projects in the Basin may also cause a shift in demand patterns. For these reasons, long term water supply planning must consider agricultural water use.

Alternatives To Be Considered in the PR/EIS

A range of water supply options will be used to develop alternatives for evaluation in the PR/EIS process. These options currently include, but are not limited to, the following:

• Conserve and reuse water;

• Construct a pipeline to provide irrigation water from the Willamette River;

• Increase the height of Scoggins Dam by 20 feet or by 40 feet;

• Construct impoundments on other tributaries of the Tualatin River;

• Import additional water from other regional water supply sources; and

• No action.

Issues To Be Investigated by the Study

Major issues that will be addressed by the PR/EIS include:

• Engineering feasibility of water supply options;

• Biological evaluation of impacts of water supply options, including wildlife and wildlife habitat, wetlands, fisheries, and special-status species;

• Economics;

• Surface and ground water hydrology;

• Water quality;

• Soils and geology;

• Outdoor recreation;

• Social well-being;

• Environmental justice;

• Sacred Sites;

• Indian trust assets (ITAs); and

• Cultural resources.

Dated: November 27, 2001.
J. William McDonald,
Regional Director, Pacific Northwest Region.

[FR Doc. 01-30775 Filed 12-12-01; 8:45 am]

BILLING CODE 4310-MN-P